DEPARTMENT OF THE INTERIOR

Bureau of Land Management

[CACA 53279, LLCA9300000, L541000000]

Notice of Realty Action: Notice of Receipt of Conveyance of Mineral Interest Application, Santa Clara County, CA

AGENCY: Bureau of Land Management, Interior.

ACTION: Notice of Realty Action.

SUMMARY: An application was filed on January 24, 2012, by the surface owner, Charles Luckhardt, et al., for the conveyance of the federally owned mineral interests underlying a 1,148.68 acre tract of land in Santa Clara County, California. Publication of this notice temporarily segregates the mineral interests in the land covered by the application from all forms of appropriation under the public land laws, including the mining laws, for up to 2 years from the date of filing of the application while the application is being processed.

FOR FURTHER INFORMATION CONTACT: Brandon G. Anderson, Realty Specialist, Bureau of Land Management, California State Office, 2800 Cottage Way, Sacramento, California 95825, or phone 916-978-4674.

SUPPLEMENTARY INFORMATION: The tract of land referred to in this notice consists of a 1,148.68 acres situated in Santa Clara County, California, and is described as follows:

Mount Diablo Meridian

T. 7 S., R. 4 E.,

Sec. 1, W½SW¼;

Sec. 2, lots 2 to 4, inclusive, SW¼NE¼, S½NW¼, SW¼, and N½SE¼;

Sec. 3, lots 1 and 2, S½NE¼, N½SE¼, and SE¼SE¼;

Sec. 12, W½NE¼, NW¼, and N½SE¼.

The area described contains 1,148.68 acres in Santa Clara County.

Under certain conditions, Section 209(b) of the Federal Land Policy and Management Act of October 21, 1976, 43 U.S.C. 1719 (FLPMA) authorizes the sale and conveyance of the federally owned mineral interests in land when the non-mineral (or so called surface interest in land) is not federally owned. The objective is to allow consolidation of the surface and mineral interests when either one of the following conditions exist: (1) There are no known mineral values in the land; or (2) where continued Federal ownership of the mineral interests interferes with or precludes appropriate non-mineral development and such development is a more beneficial use of the land than mineral development.

An application was filed for the sale and conveyance of the federally owned mineral interests in the above-described tract of land. Subject to valid existing rights, on October 5, 2012 the federally owned mineral interests in the land described above are hereby segregated from all forms of appropriation under the public land laws, including the mining laws, while the application is being processed to determine if either one of the two specified conditions exists and, if so, to otherwise comply with the procedural requirements of 43 CFR part 2720. The temporary segregative effect shall terminate: (1) Upon issuance of a patent or other document of conveyance as to such mineral interests; (2) Upon final rejection of the application; or (3) Two years after the date that the application was filed, whichever occurs first.

Authority: 43 CFR 2720.1-1(b).

Cynthia Staszak,
Associate Deputy State Director, Natural Resources.

[FR Doc. 2012-24627 Filed 10-4-12; 8:45 am]

BILLING CODE 4310-40-P